DEPARTMENT OF HEALTH AND HUMAN SERVICES

Health Resources and Services Administration

Meeting of the National Advisory Council on Migrant Health

AGENCY: Health Resources and Services Administration (HRSA), Department of Health and Human Services.

ACTION: Notice.

SUMMARY: In accordance with the Federal Advisory Committee Act, this notice announces that the Secretary's National Advisory Council on Migrant Health (NACMH or Council) has scheduled a public meeting. Information about NACMH and the agenda for this meeting can be found on the NACMH website at: https://www.hrsa.gov/advisory-committees/migrant-health.

DATES: May 15-16, 2024; 8 a.m.-5 p.m. Pacific Time.

ADDRESSES: This meeting will be held in-person and via webinar. The meeting address is DoubleTree by Hilton Hotel Sacramento, 2001 Point West Way, Sacramento, CA 95815. Instructions for joining the meeting by webinar are posted on the NACMH website. For meeting information updates, visit the NACMH website at: https://www.hrsa.gov/advisory-committees/migrant-health.

FOR FURTHER INFORMATION CONTACT: Liz Rhee, NACMH Designated Federal Official (DFO), Office of Policy and Program Development, Bureau of Primary Health Care, HRSA, 5600 Fishers Lane, Rockville, MD 20857; lrhee@hrsa.gov, or 301-443-1082.

SUPPLEMENTARY INFORMATION: NACMH advises, consults with, and makes recommendations to the Secretary of Health and Human Services on policy, program development, and other matters of significance concerning the activities under section 217 of the Public Health Service Act, as amended (42 U.S.C. 218). Specifically, NACMH provides recommendations concerning policy related to the organization, operation, selection, and funding of migrant health centers and other entities that receive grants and contracts under section 330 of the Public Health Service Act (42 U.S.C. 54b). NACMH meets twice each calendar year, or at the discretion of the DFO in consultation with NACMH's Chair.

Agenda items for the meeting may include topics and issues related to migratory and seasonal agricultural worker health. Refer to the NACMH website listed above for information concerning the May 2024 NACMH meeting, including a draft agenda and meeting materials.

Members of the public will have the opportunity to provide comments at the meeting. Public participants may submit written statements in advance of the scheduled meeting. Oral comments will be honored in the order they are requested and may be limited as time allows. Requests to submit a written statement or make oral comments at the NACMH meeting should be sent to Liz Rhee, DFO, using the contact information above at least 3 business days prior to the meeting.

Individuals who plan to attend and need special assistance or another reasonable accommodation should notify Liz Rhee using the contact information listed above at least 10 business days prior to the meeting. Registration is required to attend the meeting. Registration and meeting attendance instructions are posted on the NACMH website.

Maria G. Button,
Director, Executive Secretariat.

[FR Doc. 2024-08345 Filed 4-18-24; 8:45 am]

BILLING CODE 4165-15-P